DEPARTMENT OF COMMERCE

[Docket No. 111115679-2197-02]

Privacy Act System of Records

AGENCY: U.S. Census Bureau, Department of Commerce.

ACTION: Notice of amended Privacy Act System of Records: COMMERCE/CENSUS-4, Economic Survey Collection.

SUMMARY: In order to update the system of records the Department of Commerce publishes this notice to announce the effective date of a Privacy Act System of Records notice titled, “COMMERCE/CENSUS-4, Economic Survey Collection.” The notice of proposed amendment to this system or records was published in the Federal Register on January 26, 2012 (77 FR 4004).

DATES: The system of records becomes effective on March 27, 2012.

ADDRESSES: For a copy of the system of records please mail requests to: Chief Privacy Officer, Privacy Office, Room HQ-8H115, U.S. Census Bureau, Washington, DC 20233-3700.

FOR FURTHER INFORMATION CONTACT: Chief Privacy Officer, Privacy Office, Room HQ-8H115, U.S. Census Bureau, Washington, DC 20233-3700, 301-763-6560.

SUPPLEMENTARY INFORMATION: On January 26, 2012, the Department of Commerce published and requested comments on proposed amendments to the Privacy Act System of Records titled, “COMMERCE/CENSUS-4, Economic Survey Collection.” The amendment serves to generally update the system of records by updating the name and purpose of the system, updating categories of individuals in the system, updating categories of records in the system, updating routine uses, and updating safeguards. No comments were received in response to the request for comments. By this notice, the Department notifies the public that it adopts the proposed system as final without changes effective March 27, 2012.

Dated: Macrh 21, 2012.
Jonathan R. Cantor,
Chief Privacy Officer, U.S. Department of Commerce.

[FR Doc. 2012-7297 Filed 3-26-12; 8:45 am]

BILLING CODE 3510-07-P